ENVIRONMENTAL PROTECTION AGENCY

[EPA-HQ-OAR-2006-0947; FRL-9198-01-OMS]

Information Collection Request Submitted to OMB for Review and Approval; Comment Request; NOX SIP Call (Renewal)

AGENCY: Environmental Protection Agency (EPA).

ACTION: Notice.

SUMMARY: The Environmental Protection Agency (EPA) has submitted an information collection request (ICR), NOX SIP Call (EPA ICR Number 1857.12, OMB Control Number 2060-0445) to the Office of Management and Budget (OMB) for review and approval in accordance with the Paperwork Reduction Act. This is a proposed extension of the ICR, which is currently approved through December 31, 2021. Public comments were previously requested via the Federal Register on April, 6, 2021 during a 60-day comment period. This notice allows for an additional 30 days for public comments. A fuller description of the ICR is given below, including its estimated burden and cost to the public. An agency may not conduct or sponsor and a person is not required to respond to a collection of information unless it displays a currently valid OMB control number.

DATES: Additional comments may be submitted on or before November 26, 2021.

ADDRESSES: Submit your comments, referencing Docket ID Number EPA-HQ-OAR-2006-0947, online using www.regulations.gov (our preferred method) or by mail to: EPA Docket Center, Environmental Protection Agency, Mail Code 28221T, 1200 Pennsylvania Ave. NW, Washington, DC 20460.

EPA's policy is that all comments received will be included in the public docket without change including any personal information provided, unless the comment includes profanity, threats, information claimed to be Confidential Business Information (CBI), or other information whose disclosure is restricted by statute.

Submit written comments and recommendations to OMB for the proposed information collection within 30 days of publication of this notice to www.reginfo.gov/public/do/PRAMain. Find this particular information collection by selecting “Currently under 30-day Review—Open for Public Comments” or by using the search function.

FOR FURTHER INFORMATION CONTACT: Karen VanSickle, Clean Air Markets Division, Office of Atmospheric Programs (6204J), Environmental Protection Agency, 1200 Pennsylvania Ave. NW, Washington, DC 20460; telephone number: (202) 343-9220; fax number: (202) 343-2361; email address: Vansickle.karen@epa.gov.

SUPPLEMENTARY INFORMATION: Supporting documents which explain in detail the information that the EPA will be collecting are available in the public docket for this ICR. The docket can be viewed online at www.regulations.gov or in person at the EPA Docket Center, WJC West, Room 3334, 1301 Constitution Ave. NW, Washington, DC. The telephone number for the Docket Center is 202-566-1744. For additional information about EPA's public docket, visit http://www.epa.gov/dockets.

Abstract: The NOX SIP Call was created to reduce emissions of nitrogen oxides (NOX) from power plants and other large combustion sources. NOX is a prime ingredient in the formation of ground-level ozone (smog), a pervasive air pollution problem in many areas of the eastern United States. The NOX SIP Call requires affected states to include certain provisions in their state implementation plans (SIPs) addressing emissions of NOX that adversely affect air quality in other states. Although most large combustion sources affected under the NOX SIP Call are also subject to monitoring requirements under the Acid Rain Program or the Cross-State Air Pollution Rule, this information collection is being renewed because some industrial sources in certain states are still required to monitor and report emissions data to EPA under these rules, so we will account for their burden. All data received by EPA will be treated as public information. The OMB control numbers for EPA's regulations in 40 CFR are listed in 40 CFR part 9.

Form Numbers: None.

Respondents/affected entities: Entities which participate in the NOX SIP Call.

Respondent's obligation to respond: mandatory (Sections 110(a) and 301(a) of the Clean Air Act).

Estimated number of respondents: EPA estimates that there are 356 units that will continue to conduct monitoring solely under the NOX SIP Call.

Frequency of response: yearly, quarterly, occasionally.

Total estimated burden: 140,226 hours (per year). Burden is defined at 5 CFR 1320.03(b).

Total estimated cost: $20,622,606 (per year), includes $9,194,261 annualized capital or operation & maintenance costs.

Changes in the estimates: There is increase of 8,281 hours in the total estimated respondent burden compared with the ICR currently approved by OMB. This increase is due to assumptions made in the previous ICR regarding the number of respondents. In the previous ICR, EPA estimated fewer sources would continue to follow the Part 75 monitoring requirements due to amendments to the NOX SIP Call. This ICR is based on updated information regarding the actual numbers of sources.

Courtney Kerwin,
Director, Regulatory Support Division.

[FR Doc. 2021-23369 Filed 10-26-21; 8:45 am]

BILLING CODE 6560-50-P